UNITED STATES POSTAL SERVICE BOARD OF GOVERNORS

Sunshine Act; Meeting

Times and Dates: 1 p.m., Monday, May 5, 2003; 8 a.m., Tuesday, May 6, 2003.

Place: Chicago, Illinois, at the Sofitel Hotel, 20 East Chestnut Street, in the Grand/Chicago Ballroom.

Status: May 5—1 p.m. (Closed); May 6—8 a.m. (Open).

Matters to be Considered:

Monday, May 5—1 p.m. (Closed)

1. Strategic Planning.

2. Financial Performance.

3. Filing with the Postal Rate Commission for Parcel Returns Experiment.

4. Postal Rate Commission Opinion and Recommended Decision in Docket No. MC2002-2, Experimental Rate and Service Changes to Implement Negotiated Service Agreement with Capital One Services, Inc.

5. Capital Investment—Additional Funding Request for Biohazard Detection Systems (BDS).

6. Unresolved Audit Recommendation.

7. Personnel Matters and Compensation Issues.

Tuesday, May 6—8 a.m. (Open)

1. Minutes of the Previous Meeting, March 31-April 1, 2003.

2. Remarks of the Postmaster General and CEO.

3. Charters of Board Committees.

4. Capital Investments.

a. Mail Processing Infrastructure—Phase 1.

b. 6,240 Carrier Vehicles.

5. Great Lakes Area and Chicago District Report.

6. Tentative Agenda for the June 2, 2003, meeting in Washington, DC.

Contact Person For More Information: William T. Johnstone, Secretary of the Board, U.S. Postal Service, 475 L'Enfant Plaza, SW., Washington, DC 20260-1000. Telephone (202) 268-4800.

William T. Johnstone,
Secretary.

[FR Doc. 03-10276 Filed 4-22-03; 2:20 pm]

BILLING CODE 7710-12-M